SMALL BUSINESS ADMINISTRATION

Public Federal Regulatory Enforcement Fairness Hearing; Region VII Regulatory Fairness Board

The U.S. Small Business Administration (SBA) Region VII Regulatory Fairness Board and the SBA Office of the National Ombudsman will hold a National Regulatory Fairness Hearing on Wednesday, September 5, 2007, at 10 a.m. The forum will take place at the Iowa Department of Economic Development, 2nd Floor ICN Room, 200 East Grand Avenue, Des Moines, IA 50309. The purpose of the meeting is for Business Organizations, Trade Associations, Chambers of Commerce and related organizations serving small business concerns to report experiences regarding unfair or excessive Federal regulatory enforcement issues affecting their members.

Anyone wishing to attend or to make a presentation must contact Dave Lentell, in writing or by fax in order to be placed on the agenda. Dave Lentell, Business Development Specialist, SBA, Des Moines District Office, 210 Walnut Street, Room 749, Des Moines, IA 50309-4106, phone (515) 284-4522, and fax (202) 481-5838, e-mail: Thomas.lentell@sba.gov.

For more information, see our Web site at www.sba.gov/ombudsman.

Matthew Teague,
Committee Management Officer.

[FR Doc. E7-17096 Filed 8-28-07; 8:45 am]

BILLING CODE 8025-01-P